Executive Order 13709 of October 2, 2015

National Security Medal

By virtue of the authority vested in me as President of the United States and as Commander in Chief of the Armed Forces of the United States, it is hereby ordered as follows:

Section 1. Policy. In order to more appropriately recognize distinguished achievements and outstanding contributions in the field of national security, Executive Order 10431 of January 19, 1953, is amended as follows:

(a) Section 2 is amended to read as follows: “The National Security Medal may be awarded to any person, without regard to nationality, including members of the Armed Forces of the United States, for distinguished achievement or outstanding contribution made on or after July 26, 1947, in the field of national security through either exceptionally meritorious service performed in a position of high responsibility or through an act of heroism requiring personal courage of a high degree and complete disregard of personal safety.”; and

(b) By inserting at the end:

“7. Any individual having personal knowledge of the facts of a potential recipient's exceptionally meritorious service or act of heroism, either as an eyewitness or from the testimony of others who have personal knowledge or were eyewitnesses, may recommend the potential recipient as a candidate for the award to the Executive Secretary of the National Security Council. Any recommendations shall be made with the concurrence of the department or agency employing the proposed recipient, if appropriate, and be accompanied by complete documentation, including, where necessary, certificates, affidavits, or sworn transcripts of testimony. Each recommendation for an award shall show the exact status, at the time of the rendition of the service on which the recommendation is based, with respect to citizenship, employment, and all other material factors of the person who is being recommended for the National Security Medal. Each recommendation shall contain a draft of an appropriate citation to accompany the award of the National Security Medal.

“8. Upon a determination by the Executive Secretary of the National Security Council that the National Security Medal is warranted, and following approval by the President, the Executive Secretary shall notify the Office of the Director of National Intelligence, which will then process the award recommendation, prepare the National Security Medal, with any appropriate devices, and deliver the National Security Medal to the National Security Council for presentation to the recipient.”

Sec. 2. This order supersedes the regulations governing the award of the National Security Medal issued with Presidential approval on January 19, 1953, and published with Executive Order 10431.

Sec. 3. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

October 2, 2015.

[FR Doc. 2015-25744

Filed 10-6-15; 11:15 am]

Billing code 3295-F6-P